DEPARTMENT OF THE INTERIOR

Fish and Wildlife Service

[FWS-HQ-MB-2019-N114; FXMB12310900WHO-190-FF09M26000; OMB Control Number 1018-0023]

Agency Information Collection Activities; Submission to the Office of Management and Budget for Review and Approval; Migratory Bird Harvest Information Program and Migratory Bird Surveys

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before November 25, 2019.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: JAO/1N PRB/PERMA, 5275 Leesburg Pike, Falls Church, VA 22041-3803 (mail); or by email to Info_Coll@fws.gov. Please reference OMB Control Number 1018-0023 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On February 28, 2019, we published a Federal Register notice (84 FR 6814) soliciting public comment on this information collection for 60 days, ending April 29, 2019. We received no comments in response to that notice.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The Migratory Bird Treaty Act (16 U.S.C. 703-711) and the Fish and Wildlife Act of 1956 (16 U.S.C. 742d) designate the Department of the Interior as the key agency responsible for (1) the wise management of migratory bird populations frequenting the United States, and (2) setting hunting regulations that allow appropriate harvests that are within the guidelines that will allow for those populations' well-being. These responsibilities dictate that we gather accurate data on various characteristics of migratory bird harvest. Based on information from harvest surveys, we can adjust hunting regulations as needed to optimize harvests at levels that provide a maximum of hunting recreation while keeping populations at desired levels.

Under 50 CFR 20.20, migratory bird hunters must register for the Migratory Bird Harvest Information Program (HIP) in each State in which they hunt each year. State natural resource agencies must send names and addresses of all migratory bird hunters to Branch of Monitoring and Information Management, U.S. Fish and Wildlife Service Division of Migratory Bird Management, on an annual basis.

The Migratory Bird Hunter Survey is based on the Migratory Bird Harvest Information Program. We randomly select migratory bird hunters and ask them to report their harvest. The resulting estimates of harvest per hunter are combined with the complete list of migratory bird hunters to provide estimates of the total harvest for the species surveyed.

The Parts Collection Survey estimates the species, sex, and age composition of the harvest, and the geographic and temporal distribution of the harvest. Randomly selected successful hunters who responded to the Migratory Bird Hunter Survey the previous year are asked to complete and return a postcard if they are willing to participate in the Parts Collection Survey. We provide postage-paid envelopes to respondents before the hunting season and ask them to send in a wing or the tail feathers from each duck or goose that they harvest, or a wing from each mourning dove, woodcock, band-tailed pigeon, snipe, rail, or gallinule that they harvest. We use the wings and tail feathers to identify the species, sex, and age of the harvested sample. We also ask respondents to report on the envelope the date and location of harvest for each bird. We combine the results of this survey with the harvest estimates obtained from the Migratory Bird Hunter Survey to provide species-specific national harvest estimates.

The combined results of these surveys enable us to evaluate the effects of season length, season dates, and bag limits on the harvest of each species, and thus help us determine appropriate hunting regulations.

The Sandhill Crane Harvest Survey is an annual questionnaire survey of people who obtained a sandhill crane hunting permit. At the end of the hunting season, we randomly select a sample of permit holders and ask them to report the date, location, and number of birds harvested for each of their sandhill crane hunts. Their responses provide estimates of the temporal and geographic distribution of the harvest as well as the average harvest per hunter, which, combined with the total number of permits issued, enables us to estimate the total harvest of sandhill cranes. Based on information from this survey, we adjust hunting regulations as needed.

Proposed Revision

In fall of 2019, we will be implementing a new, online platform for the Migratory Bird Hunter Survey. In 2018, OMB approved usability testing of the online platform under the Department of the Interior's “Fast Track” clearance process (OMB Control Number 1090-0011). We are now ready to seek full OMB approval for the platform under the Service's existing collection “Migratory Bird Information Program and Migratory Bird Surveys, 50 CFR 20.20 (OMB Control Number 1018-0023).

The platform will be optimized for use on multiple device types (computer, tablet, or phone; Android or Apple OS). Unlike the paper survey form, the online survey platform walks a participant through the process of entering their harvest for a single day, asking for one piece of information at a time. This reduces confusion and the likelihood that the hunter will provide incorrect information. Also, data quality is improved at each step with a new system of checks and pre-populated menus which limit the types of responses and prevent errors (e.g., reporting harvest of the wrong species, or in the wrong State). We will continue to conduct the paper survey for 3 years, in order to ensure that data collected through the new method is sound, and to provide a side-by-side comparison of harvest estimates that can be used to calibrate the old survey to the new one. This is particularly important for maintaining a continuous time series of harvest estimates, despite changing methodology.

Title of Collection: Migratory Bird Information Program and Migratory Bird Surveys, 50 CFR 20.20.

OMB Control Number: 1018-0023.

Form Number: FWS Forms 3-165, 3-165A through E, and 3-2056J through N.

Type of Review: Revision of a currently approved collection.

Respondents/Affected Public: States and migratory game bird hunters.

Respondent's Obligation: Mandatory for HIP registration information; voluntary for participation in the surveys.

Frequency of Collection: Annually for States or on occasion for migratory bird hunters.

Total Estimated Annual Nonhour Burden Cost: None.

Collection type/ form number | Number of respondents | Average number of responses each | Number of annual responses * | Average time per response | Total annual burden hours *
Migratory Bird Harvest Information Program (State Governments)
| 49 | 16.5 | 809 | 157 hours | 127,013
Migratory Bird Hunter Survey (Individuals)
Form 3-2056J | 31,900 | 1 | 31,900 | 5 minutes | 2,658
Form 3-2056K | 16,900 | 1 | 16,900 | 4 minutes | 1,127
Form 3-2056L | 8,500 | 1 | 8,500 | 4 minutes | 567
Form 3-2056M | 10,200 | 1 | 10,200 | 3 minutes | 510
Subtotals: | 67,500 |  | 67,500 |  | 4,862
Parts Collection Survey (Individuals)
Form 3-165 | 4,870 | 22 | 107,140 | 5 minutes | 8,928
Form 3-165A | 1,000 | 5.5 | 5,500 | 5 minutes | 458
Form 3-165B | 3,600 | 1 | 3,600 | 1 minute | 60
Form 3-165C | 900 | 1 | 900 | 1 minute | 15
Form 3-165D | 1,134 | 1 | 1,134 | 1 minute | 19
Form 3-165E | 1,100 | 1.5 | 1,650 | 5 minutes | 138
Subtotals: | 12,604 |  | 119,924 |  | 9,619
Sandhill Crane Harvest Survey (Individuals)
Form 3-2056N | 4,300 | 1 | 4,300 | 3.5 minutes | 251
Online Migratory Bird Harvest Survey (Individuals) NEW
None (Online) | 25,500 | 1 | 25,500 | 4 minutes | 1,700
Totals: | 109,953 |  | 218,033 |  | 143,444
* Rounded

An agency may not conduct or sponsor and a person is not required to respond to a collection of information unless it displays a currently valid OMB control number.

The authority for this action is the Paperwork Reduction Act of 1995 (44 U.S.C. 3501 et seq.).

Dated: October 21, 2019.
Madonna Baucum,
Information Collection Clearance Officer, U.S. Fish and Wildlife Service.

[FR Doc. 2019-23187 Filed 10-23-19; 8:45 am]

BILLING CODE 4333-15-P